DEPARTMENT OF COMMERCE

National Oceanic and Atmospheric Administration

RIN 0648-XG277

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Ecosystem-Based Fishery Management (EBFM) Committee to consider actions affecting New England fisheries in the exclusive economic zone (EEZ). Recommendations from this group will be brought to the full Council for formal consideration and action, if appropriate.

DATES: This meeting will be held on Thursday, June 21, 2018 at 9 a.m.

ADDRESSES:

Meeting address: The meeting will be held at the Hilton Garden Inn, 100 Boardman Street, Boston, MA 02128; telephone: (617) 567-6789.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The committee will discuss the EBFM Plan Development Team report. They will also provide feedback on an initial draft “Ecosystem Risk Assessment for the Georges Bank Ecosystem Production Unit”. The committee will discuss the “2018 Ecosystem-Based Fishery Management Strategy Independent Peer Review” Report as well as receive a report about a draft “Northeast Regional Implementation Plan of NOAA Fisheries Ecosystem-Based Fisheries Management Roadmap”. They will discuss a draft strawman outline of an example prototype Fishery Ecosystem Plan (eFEP) and identification of tasks and timeline to complete an eFEP. Discuss other business as necessary.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: May 30, 2018.
Tracey L. Thompson,
Acting Deputy Director, Office of Sustainable Fisheries, National Marine Fisheries Service.

[FR Doc. 2018-11918 Filed 6-1-18; 8:45 am]

BILLING CODE 3510-22-P